DEPARTMENT OF AGRICULTURE

Agricultural Marketing Service

7 CFR Parts 1146 and 1147

[Doc. No. AMS-DA-21-0013]

RIN 0581-AE00

Dairy Donation Program

AGENCY: Agricultural Marketing Service, USDA.

ACTION: Final rule; removal of expiration date.

SUMMARY: On September 1, 2021, the Agricultural Marketing Service (AMS) amended the provisions of the Milk Donation Reimbursement Program through September 1, 2023, and added regulations for the Dairy Donation Program, on an interim basis, set to expire September 1, 2023. On August 24, 2023, AMS published a final rule further amending the provisions of both programs and removing the expiration date for the Dairy Donation Program. However, we failed to formally adopt the interim provisions, remove the expiration of the amendments to the Milk Donation Reimbursement Program, and list the removal of both expirations in the DATES section of the preamble. This final rule corrects that oversight.

DATES: Effective August 31 2023, the September 1, 2023, expiration date for the amendments to §§ 1146.1, 1146.102, 1146.106, and the addition of part 1147, published September 1, 2021, at 86 FR 48887, is removed.

FOR FURTHER INFORMATION CONTACT: Erin Taylor, Director, Order Formulation and Enforcement, AMS Dairy Program, USDA; 1400 Independence Avenue SW, Room 2524-S, Washington, DC 20250; telephone: (202) 720-7311; email: DDP@usda.gov; web address: www.ams.usda.gov/ddp.

SUPPLEMENTARY INFORMATION: The Dairy Donations Program (DDP) was implemented on September 1, 2021, through an interim final rule (86 FR 48887). The final rule of August 25, 2023 (88 FR 57861), finalized and made minor changes to the provisions of the DDP codified at 7 CFR part 1147. The final rule of August 25, 2023, also further amended the provisions of the Milk Donation Reimbursement Program (MDRP), which was established in 2021 (84 FR 46658), and amended in 2021 (86 FR 48897) to better coordinate with the DDP. Both donation programs provide for reimbursement of certain costs for donations of milk and dairy products and help reduce food waste.

The DDP and the 2021 amendments to MDRP were set to expire September 1, 2023. However, AMS determined to retain both programs as established and amended and to further amend certain provisions of both parts. The final rule of August 25, 2023, made further amendments to both parts and removed expiration of the DDP provisions, but failed to remove expiration of the 2021 amendments to the MDRP. This document corrects that oversight.

7 CFR PART 1146—MILK DONATION REIMBURSEMENT PROGRAM

7 CFR PART 1147—DAIRY DONATION PROGRAM

AMS adopts as final the interim rule amending 7 CFR parts 1146 and 1147 which was published at 86 FR 48887 on September 1, 2021, with the changes published at 88 FR 57861 on August 24, 2023.

Erin Morris,
Associate Deputy Administrator, Agricultural Marketing Service.

[FR Doc. 2023-18949 Filed 8-30-23; 8:45 am]

BILLING CODE 3410-02-P